DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans) and the United States Forest Service (Plumas National Forest) to issue a special use permit to Caltrans.

SUMMARY: The FHWA, on behalf of Caltrans, is issuing this notice to announce actions taken by Caltrans that are final. The actions relate to a proposed highway project, State Route 70, postmiles 46.0 to 47.0, approximately 4.3 miles northeast of the town of Pulga in the County Butte, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 23, 2022. If the Federal law that authorizes judicial review of a claim provides a time period of less than 150 days for filing such claim, then that shorter time period still applies.

FOR FURTHER INFORMATION CONTACT: For Caltrans District 3: Laura Loeffler, Branch Chief, Caltrans Office of Environmental Management M-1 California Department of Transportation-District 3, 703 B Street, Marysville, CA 95901. Office Hours: 8:00 a.m.-5:00 p.m., Pacific Standard Time, telephone (530) 821-4937 or email laura.loeffler@dot.ca.gov For FHWA, contact Shawn Oliver at (916) 498-5048 or email Shawn.Oliver@dot.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: Restore and repair damaged section of roadway by raising the existing vertical alignment by approximately five feet, shoulder widening, replacing Bear Creek Bridge (No. 12-0039), protecting the embankment with rock slope protection and installing a retaining wall to safeguard against future flooding. The project occurs on the east bank North Fork Feather River within the Feather River Canyon in eastern Butte County, approximately 4.3 miles northeast of the town of Pulga, on State Route 70, post miles 46.0 and 47.0. The actions by the Federal agencies, and the laws under which such actions were taken, are described in the Final Environmental Assessment (EA/Finding of No Significant Impact, FONSI), approved on April 6, 2022, and in other documents in the Caltrans' project records. The FEA, FONSI, and other project records are available by contacting Caltrans at the addresses provided above. The Caltrans FEAS and FONSI can be viewed and downloaded from the project website at https://dot.ca.gov/caltrans-near-me/district-3/d3-programs/d3-environmental/d3-environmental-docs/d3-butte-count.

This notice applies to all Federal agency decisions as of the issuance date of this notice and all laws under which such actions were taken, including but not limited to:

1. Council on Environmental Quality Regulations (40 CFR 1500 et seq., 23 CFR 771);

2. National Environmental Policy Act of 1969 (NEPA), as amended, 42 U.S.C. 4321 et seq.;

3. Federal-Aid Highway Act, (23 U.S.C. 109, as amended by FAST Act Section 1404(a), Public Law 114-94, and 23 U.S.C. 128);

4. MAP-21, the Moving Ahead for Progress in the 21st Century Act (Pub. L. 112-141);

5. Clean Air Act, as amended (42 U.S.C. 7401 et seq. (Transportation Conformity, 40 CFR part 93);

6. Clean Water Act of 1977 (33 U.S.C. 1251 et seq.);

7. Federal Water Pollution Control Act of 1972 (see Clean Water Act of 1977 & 1987);

8. Federal Land Policy and Management Act of 1976, Public Law 94-579;

9. Noise Control Act of 1972;

10. Safe Drinking Water Act, as amended (42 U.S.C. 300f et seq.);

11. Endangered Species Act of 1973 (16 U.S.C. 1531-1544 and Section 1536);

12. Executive Order 11990, Protection of Wetlands;

13. Executive Order 13186, Migratory Birds;

14. Fish and Wildlife Coordination Act of 1934, as amended;

15. Executive Order 13112, Invasive Species;

16. Executive Order 11988, Floodplain Management;

17. Title VI of the Civil Rights Act of 1964, as amended;

18. Executive Order 12898, Federal Actions to Address Environmental Justice and Low-Income Populations.

19. Department of transportation Act of 1966, Section 4(f) (49 U.S.C. 303 and 23 U.S.C. 138);

20. National Historic Preservation Act of 1966, as amended (54 U.S.C. 306108 et seq.)

(Catalog of Federal Domestic Assistance Program Number 20.205, Highway Planning and Construction. The regulations implementing Executive Order 12372 regarding intergovernmental consultation on Federal programs and activities apply to this program.)

Authority: 23 U.S.C. 139(l)(1).

Dated: April 20, 2022.
Christina Leach,
Acting Director, Planning, Environment and Right of Way, Federal Highway Administration, California Division.

[FR Doc. 2022-08825 Filed 4-25-22; 8:45 am]

BILLING CODE 4910-RY-P